DEPARTMENT OF LABOR

Employment and Training Administration

[TA-W-59,772]

E.I. Dupont, Dupont Automotive Systems Division, Troy, MI; Notice of Termination of Investigation

Pursuant to Section 221 of the Trade Act of 1974, as amended, an investigation was initiated on July 25, 2006 in response to a petition filed by a company official on behalf of workers at E.I. DuPont, DuPont Automotive Systems Division, Troy, Michigan. The workers at the subject facility produced automotive paints.

The petitioner has requested that the petition be withdrawn. Consequently, the investigation has been terminated.

Signed in Washington, DC, this 18th day of August, 2006.
Richard Church,
Certifying Officer, Division of Trade Adjustment Assistance.

[FR Doc. E6-14329 Filed 8-28-06; 8:45 am]

BILLING CODE 4510-30-P